DEPARTMENT OF ENERGY

Federal Energy Regulatory Commission

Notice of Settlement Agreement and Soliciting Comments

August 6, 2004.

Take notice that following settlement agreement has been filed with the Commission and is available for public inspection.

a. Type of Application: Settlement Agreement on Resolution of Issues Related to Licensing of the Storage Project.

b. Project No.: P-2634-007.

c. Date filed: August 2, 2004.

d. Applicant: Great Lakes Hydro America, LLC.

e. Name of Project: Storage Project.

f. Location: On Ragged Stream, Caucomgomoc Stream, and West Branch and South Branch of the Penobscot River in the Counties of Somerset and Piscataquis, Maine. The project would not utilize federal lands.

g. Filed Pursuant to: Rule 602 of the Commission's Rules of Practice and Procedure, 18 CFR 385.602.

h. Applicant Contact: David Preble, Operations Manager, Great Lakes Hydro America, LLC, 1024 Central Street, Millinocket, Maine 04462, (207) 723-4341 x106.

i. FERC Contact: John Costello, (202) 502-6119, john.costello@ferc.gov.

j. Deadline for Filing Comments: 20 days from the issuance date of this notice; reply comments are due 30 days from the issuance date of this notice.

All documents (original and eight copies) should be filed with: Magalie R. Salas, Secretary, Federal Energy Regulatory Commission, 888 First Street, NE., Washington, DC 20426.

The Commission's Rules of Practice require all interveners filing documents with the Commission to serve a copy of that document on each person on the official service list for the Project. Further, if an intervener files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Great Lakes (Great Lakes) Hydro America, LLC filed a settlement agreement on the resolution of issues related to the licensing proceeding for the Storage Project. Great Lakes filed this settlement agreement on behalf of Penobscot Indian Nation, Passamaquoddy Tribe, U.S. Department of the Interior, Bureau of Indian Affairs, U.S. Department of the Interior, Fish and Wildlife Service, U.S. Department of the Interior, National Park Service, Maine Department of Inland Fisheries and Wildlife, Maine Department of Conservation, Appalachian Mountain Club, American Whitewater, and New England FLOW. The settlement agreement includes provisions for project operations and measures to enhance aquatic and riparian habitat, manage wildlife resources, protect shorelines, improve recreational facilities, and provide public and tribal access.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or TTY, (202) 502-8659. A copy is also available for inspection and reproduction at the address in item h above.

You may also register online at http://ferc.gov/docs-filing/esubscription.asp to be notified via email of new filings and issuances related to this or other pending projects. For assistance, contact FERC Online Support.

Magalie R. Salas,
Secretary.

[FR Doc. E4-1791 Filed 8-11-04; 8:45 am]

BILLING CODE 6717-01-P